DEPARTMENT OF TRANSPORTATION

Surface Transportation Board

[STB Finance Docket No. 34994]

Tri City Railroad Company, L.L.C.—Acquisition and Operation Exemption—in Olympia, WA

Tri City Railroad Company, L.L.C. (Tri City), a Class III rail carrier, has filed a verified notice of exemption under 49 CFR 1150.41 to acquire by lease, pursuant to an agreement with Union Pacific Railroad Company, and operate a 7.29-mile line of railroad, known as the Olympia Industrial Lead, extending from milepost 0.00 at East Olympia, WA (including wye and house tracks at East Olympia), to milepost 7.29 at Olympia, WA.

Tri City certifies that its projected annual revenues as a result of this transaction will not result in the creation of a Class II or Class I rail carrier.

The earliest this transaction may be consummated is the March 14, 2007 effective date of the exemption (30 days after the exemption was filed).¹

¹ In its notice of exemption, Tri City indicated a consummation date of March 1, 2007. Tri City has been informed by a Board staff member that consummation may not take place until March 14, 2007.

If the verified notice contains false or misleading information, the exemption is void ab initio. Petitions to revoke the exemption under 49 U.S.C. 10502(d) may be filed at any time. The filing of a petition to revoke will not automatically stay the transaction. Petitions for stay must be filed no later than March 7, 2007 (at least 7 days before the exemption becomes effective).

An original and 10 copies of all pleadings, referring to STB Finance Docket No. 34994, must be filed with the Surface Transportation Board, 1925 K Street, NW., Washington, DC 20423-0001. Filings made on or after March 5, 2007, should be sent to the Board's new address: Surface Transportation Board, 395 E Street, SW., Washington, DC 20423-0001. In addition, a copy of each pleading must be served on Randolph Peterson, Tri City Railroad Company, L.L.C., 2579 Stevens Drive, Richland, WA 99352.

Board decisions and notices are available on our Web site at http://www.stb.dot.gov.

Decided: February 16, 2007.
By the Board, David M. Konschnik, Director, Office of Proceedings.
Vernon A. Williams,
Secretary.

[FR Doc. E7-3250 Filed 2-23-07; 8:45 am]

BILLING CODE 4915-01-P